ENVIRONMENTAL PROTECTION AGENCY

[EPA-HQ-OECA-2012-0525; FRL-9941-78-OEI]

Information Collection Request Submitted to OMB for Review and Approval; Comment Request; NESHAP for Chemical Manufacturing Area Sources

AGENCY: Environmental Protection Agency (EPA).

ACTION: Notice.

SUMMARY: The Environmental Protection Agency has submitted an information collection request (ICR), “NESHAP for Chemical Manufacturing Area Sources (40 CFR part 63, subpart VVVVVV)” (EPA ICR No. 2323.06, OMB Control No. 2060-0621) to the Office of Management and Budget (OMB) for review and approval in accordance with the Paperwork Reduction Act (44 U.S.C. 3501 et seq.). This is a proposed extension of the ICR, which is currently approved through January 31, 2016. Public comments were previously requested via the Federal Register (80 FR 32116) on June 5, 2015 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before February 26, 2016.

ADDRESSES: Submit your comments, referencing Docket ID Number EPA-HQ-OECA-2012-0525, to (1) EPA online using www.regulations.gov (our preferred method), by email to docket.oeca@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Patrick Yellin, Monitoring, Assistance, and Media Programs Division, Office of Compliance, Mail Code 2227A, Environmental Protection Agency, 1200 Pennsylvania Ave. NW., Washington, DC 20460; telephone number: (202) 564-2970; fax number: (202) 564-0050; email address: yellin.patrick@epa.gov.

SUPPLEMENTARY INFORMATION: Supporting documents which explain in detail the information that the EPA will be collecting are available in the public docket for this ICR. The docket can be viewed online at www.regulations.gov or in person at the EPA Docket Center, EPA West, Room 3334, 1301 Constitution Ave. NW., Washington, DC. The telephone number for the Docket Center is 202-566-1744. For additional information about EPA's public docket, visit http://www.epa.gov/dockets.

Abstract: These standards apply to the area source NESHAP for chemical manufacturing (40 CFR part 63, subpart VVVVVV). There are nine area source categories in the chemical manufacturing sector: Agricultural Chemicals and Pesticides Manufacturing, Cyclic Crude and Intermediate Production, Industrial Inorganic Chemical Manufacturing, Industrial Organic Chemical Manufacturing, Inorganic Pigments Manufacturing, Miscellaneous Organic Chemical Manufacturing, Plastic Materials and Resins Manufacturing, Pharmaceutical Production, and Synthetic Rubber Manufacturing. The requirements apply to process vents, storage tanks, equipment leaks, wastewater systems, transfer operations, and heat exchange systems at affected sources in each area source category and are combined in one subpart. The standards are based on EPA's determination of generally available control technology (GACT) or management practices for each area source category.

Form Numbers: None.

Respondents/affected entities: Chemical manufacturing area source facilities.

Respondent's obligation to respond: Mandatory (40 CFR part 63, subpart VVVVVV).

Estimated number of respondents: 498 (total).

Frequency of response: Initially and semiannually.

Total estimated burden: 9,590 hours (per year). Burden is defined at 5 CFR 1320.3(b).

Total estimated cost: $2,220,000 (per year), includes $1,250,000 annualized capital or operation & maintenance costs.

Changes in the Estimates: There is an adjustment decrease in the respondent burden and number of responses from the most recently approved ICR. The decrease occurred because the rule has been in effect for three years, and the burden associated with initial compliance (e.g. initial performance tests and notification reports) differ from the burden for ongoing compliance (e.g. submittal of semiannual reports). However, there is an adjustment increase in the total capital and O&M cost. This is primarily due to two reasons: (1) The previous ICR presented capital costs as annualized costs over 15 years, rather than one-time costs; and (2) the total number of sources with O&M cost (i.e. maintain systems and monitors) has increased now that the rule is fully implemented.

Courtney Kerwin,
Acting Director, Collection Strategies Division.

[FR Doc. 2016-01636 Filed 1-26-16; 8:45 am]

BILLING CODE 6560-50-P